DEPARTMENT OF ENERGY

Federal Energy Regulatory Commission

[Docket No. RP93-151-028]

Tennessee Gas Pipeline Company; Notice of GSR Final Report

April 4, 2001.

Take notice that on March 30, 2001, Tennessee Gas Pipeline Company (Tennessee), in accordance with Article VI, section C of the February 28, 1997 GSR Stipulation and Agreement (Stipulation), submitted its Final Report.

Tennessee states that copies of the Final Report have been served on all parties on the service list in the referenced proceeding.

Any person desiring to protest said filing should file a protest with the Federal Energy Regulatory Commission, 888 First Street, NE., Washington, DC 20426, in accordance with section 385.211 of the Commission's Rules and Regulations. All such protests must be filed on or before April 11, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-8775 Filed 4-9-01; 8:45 am]

BILLING CODE 6717-01-M